DEPARTMENT OF TRANSPORTATION

Federal Aviation Administration

14 CFR Part 71

[Docket No. FAA-2005-22399; Airspace Docket No. 05-AAL-27]

RIN 2120-AA66

Modification of the Norton Sound Low Offshore Airspace Area; AK

AGENCY: Federal Aviation Administration (FAA), DOT.

ACTION: Final rule.

SUMMARY: This action amends the Norton Sound Low airspace area, AK. Specifically, this action modifies the Norton Sound Low airspace area in the vicinity of the Deering Airport, AK, by lowering the controlled airspace floor to 1,200 feet mean sea level (MSL) and expanding the area to a 45-nautical mile (NM) radius of the airport. The FAA is taking this action to provide additional controlled airspace for aircraft instrument operations at the Deering Airport.

EFFECTIVE DATE: 0901 UTC, February 16, 2006.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

History

On September 21, 2005, the FAA published in the Federal Register a notice of proposed rulemaking to modify the Norton Sound Low Offshore Airspace Area in Alaska (70 FR 55325). Interested parties were invited to participate in this rulemaking effort by submitting written comments on the proposal. No comments were received. A review of the airspace configuration at Nome, Alaska, revealed that an exclusion for the Nome Class E airspace was not needed; this resulted in a minor change to the legal description of the Norton Sound Low area, which removed the exclusion for the Nome, Alaska, Class E airspace.

Norton Sound Low airspace areas are published in paragraph 6007 of FAA Order 7400.9N dated September 1, 2005, and effective September 15, 2005, which is incorporated by reference in 14 CFR 71.1. The Norton Sound Low airspace area listed in this document will be published subsequently in the order.

The Rule

This action amends to Title 14 Code of Federal Regulations (14 CFR) part 71 to modify the Norton Sound Low airspace area, AK, by lowering the floor to 1,200 feet MSL within a 45-NM radius of Deering Airport, AK. This action establishes controlled airspace to support instrument flight rules operations at Deering Airport. The FAA Instrument Flight Procedures Production and Maintenance Branch has developed four new instrument approach procedures for the Deering Airport. New controlled airspace extending upward from 1,200 feet MSL above the surface in international airspace is created by this action.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

ICAO Considerations

As part of this action relates to navigable airspace outside the United States, this notice is submitted in accordance with the International Civil Aviation Organization (ICAO) International Standards and Recommended Practices.

The application of International Standards and Recommended Practices by the FAA, Office of System Operations Airspace and AIM, Airspace & Rules, in areas outside the United States domestic airspace, is governed by the Convention on International Civil Aviation. Specifically, the FAA is governed by Article 12 and Annex 11, which pertain to the establishment of necessary air navigational facilities and services to promote the safe, orderly, and expeditious flow of civil air traffic. The purpose of Article 12 and Annex 11 is to ensure that civil aircraft operations on international air routes are performed under uniform conditions.

The International Standards and Recommended Practices in Annex 11 apply to airspace under the jurisdiction of a contracting state, derived from ICAO. Annex 11 provisions apply when air traffic services are provided and a contracting state accepts the responsibility of providing air traffic services over high seas or in airspace of undetermined sovereignty.

A contracting state accepting this responsibility may apply the International Standards and Recommended Practices that are consistent with standards and practices utilized in its domestic jurisdiction.

In accordance with Article 3 of the Convention, state-owned aircraft are exempt from the Standards and Recommended Practices of Annex 11. The United States is a contracting state to the Convention. Article 3(d) of the Convention provides that participating state aircraft will be operated in international airspace with due regard for the safety of civil aircraft. Since this action involves, in part, the designation of navigable airspace outside the United States, the Administrator consulted with the Secretary of State and the Secretary of Defense in accordance with the provisions of Executive Order 10854.

Environmental Review

The FAA has determined that this action qualifies for categorical exclusion under the National Environmental Policy Act in accordance with FAA Order 1050.1E, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 6007—Offshore Airspace Areas.

* * * * *

Norton Sound Low, AK [Amended]

That airspace extending upward from 1,200 MSL within a 45-mile radius of the Deering Airport, Alaska, and airspace extending upward from 14,500 feet MSL within an area bounded by a line beginning at Lat. 59°59′57″ N., long. 168°00′08″ W.; to Lat. 62°35′00″ N., long. 175°00′00″ W.; to Lat. 65°00′00″ N., long. 168°58′23″ W.; to Lat. 68°00′00″ N., long. 168°58′23″ W.; to a point 12 miles offshore at Lat. 68°00′00″ N.; thence by a line 12 miles from and parallel to the shoreline to Lat. 56°42′59″ N., long. 160°00′00″ W.; to Lat. 58°06′57″ N., long. 160°00′00″ W.; to Lat. 57°45′57″ N., long. 161°46′08″ W.; to the point of beginning, excluding that portion that lies within Class E airspace above 14,500 feet MSL, Federal airways and the Nome and Kotzebue, AK, Class E airspace areas.

* * * * *

Issued in Washington, DC, on November 17, 2005.
Edith V. Parish,
Manager, Airspace and Rules.

[FR Doc. 05-23306 Filed 11-25-05; 8:45 am]

BILLING CODE 4910-13-P